DEPARTMENT OF TRANSPORTATION

Federal Aviation Administration

RTCA Special Committee 195; Flight Information Services Communications (FISC)

Pursuant to section 10(a)(2) of the Federal Advisory Committee Act (Pub. L. 92-463, 5 U.S.C., appendix 2), notice is hereby given for Special Committee (SC)-195 meeting to be held March 6-7, 2001, starting at 8:30 a.m. each day. The meeting will be held at RTCA, Inc., 1140 Connecticut Ave., NW, Suite 1020 Washington, DC 20036.

The agenda will include: March 6: Plenary convenes: (1) Welcome and Introductory Remarks; (2) Review Meeting Agenda; (3) Working Group (WG)-1, Aircraft Cockpit Weather Display; Plenary reconvenes: (4) Review of Previous Meeting Minutes; (5) Report from WG-1 on Activities; (6) Review Flight Information Service-Broadcast (FIS-B) Minimum Aviation System Performance Standards (MASPS) status; (7) Consideration for Application of Provisions of ISO/IEC TR 9577 IPI/SPI Specifications FIS-B Subnetwork; March 7: (8) Develop guidelines for inclusion of FIS Products in Appendix E; (9) Review SC-195 Work Plan; (10) Other Business; (11) Date and place of Next Meeting; (12) Closing.

Attendance is open to the interested public but limited to space availability. With the approval of the chairman, members of the public may present oral statements at the meeting. Persons wishing to present statements or obtain information should contact the RTCA Secretariat, 1140 Connecticut Avenue, NW., Suite 1020, Washington, DC 20036; (202) 833-9339 (phone); (202) 833-9434 (fax); or http://www.rtca.org (web site). Members of the public may present a written statement to the committee at any time.

Issued in Washington, DC, on January 26, 2001.
Janice L. Peters,
Designated Official.

[FR Doc. 01-2793 Filed 2-1-01; 8:45 am]

BILLING CODE 4910-13-M